Proclamation 8423 of September 25, 2009

National Public Lands Recognition Day, 2009

By the President of the United States of America

A Proclamation

Borne out of a commitment to protect and preserve our natural treasures, America's public lands are an indispensable component of American life. As we work to protect their integrity for future generations, vast expanses of land remain available for the use and enjoyment of all who visit them. National Public Lands Day is an opportunity for all Americans, young and old, to celebrate the majesty of our open spaces and devote our collective efforts to conserving our Nation's unique landscapes.

Today, from the largest National Parks and Forests to neighborhood playgrounds and urban parks, 130,000 volunteers are working on over 2,000 public land improvement projects across the Nation. Committed individuals, including participants from schools and universities, private businesses, non-profit organizations, and government agencies, are continuing the American tradition of stewardship through their service.

Dedicated to improving all aspects of our natural environment, this year's Public Lands Day focuses on water. Across the country, volunteers are highlighting the need to protect our Nation's water bodies by monitoring water quality in rivers and lakes, restoring wetlands, preventing stormwater runoff and erosion, cleaning up trash from shorelines, and learning techniques to conserve water at home.

Public lands help preserve our Nation's quality of life, offering fresh water, abundant natural resources, and educational and recreational opportunities. I was proud to sign the Omnibus Public Land Management Act of 2009 to add to our Nation's treasured landscapes and build on our rich history as guardians of our natural environment. Today, we affirm our resolve to conserve these cherished spaces for our enjoyment and for that of future generations.

NOW, THEREFORE, I, BARACK OBAMA, President of the United States of America, by virtue of the authority vested in me by the Constitution and the laws of the United States, do hereby proclaim September 26, 2009, as National Public Lands Day. I invite all my fellow citizens to join me in a day of service for our public lands.

IN WITNESS WHEREOF, I have hereunto set my hand this twenty-fifth day of September, in the year of our Lord two thousand nine, and of the Independence of the United States of America the two hundred and thirty-fourth.

[FR Doc. E9-23757

Filed 9-29-09; 11:15 am]

Billing code 3195-W9-P